DEPARTMENT OF HEALTH AND HUMAN SERVICES

Centers for Disease Control and Prevention

[60Day-16-16RZ; Docket No. CDC-2016-0024]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on An Assessment of the State Public Health Actions (“1305”) Program, a study to explore state-level partnerships and synergy among state health departments funded through the State Public Health Actions 1305 cooperative agreement.

DATES: Written comments must be received on or before May 2, 2016.

ADDRESSES: You may submit comments, identified by Docket No. CDC-2016-0024 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

An Assessment of the State Public Health Actions (“1305”) Program—New—National Center for Chronic Disease Prevention and Health Promotion, Centers for Disease Control and Prevention (CDC).

Background and Brief Description

Chronic diseases and conditions—such as heart disease, stroke, diabetes, and obesity—are the leading causes of death and disability in the United States, and are major drivers of sickness, disability, and high health care costs (CDC, 2016). Having multiple chronic conditions further increases the risk for these negative health outcomes, while also increasing risk for poor day-to-day functioning. Chronic diseases, as well as multiple chronic diseases, are associated with significant health care costs. In 2010, 86% of all health care spending was attributed to individuals with at least one chronic medical condition, and 71% was associated with care for individuals with multiple chronic conditions (Gerteis et al., 2014).

To address these challenges, the Centers for Disease Control and Prevention (CDC)'s National Center for Chronic Disease Prevention and Health Promotion (NCCDPHP) provides funding for cross-cutting chronic disease programs within state and local health agencies to implement public health programs; conduct public health surveillance; translate research; communicate health prevention messages; and develop and implement tools and resources for state- and local-level stakeholders. In 2013, the NCCDPHP developed a new program funding opportunity to support states in the design and implementation of strategies to reduce complications from multiple chronic diseases and associated risk factors. The funding opportunity was announced as “State Public Health Actions to Prevent and Control Diabetes, Heart Disease, Obesity and Associated Risk Factors and Promote School Health,” CDC-RFA-DP13-1305, and is hereafter referred to as “State Public Health Actions 1305.” This new 5-year cooperative agreement supports state health departments in an important transition from funding and implementing four separate categorical areas (i.e., diabetes; heart disease and stroke; nutrition, physical activity, and obesity; and school health) to working collaboratively across categorical areas to plan and implement cross-cutting initiatives. This cross-cutting approach is essential for supporting activities to prevent chronic disease and risk factors—particularly multiple chronic conditions.

State Public Health Actions 1305 addresses six key public health priorities: (1) Uncontrolled hypertension, (2) prevention and control of diabetes, (3) incidence of obesity, (4) increased physical activity and healthy eating by children and adults, (5) increased breastfeeding, and (6) improved management of chronic conditions among students. Strategies implemented under State Public Health Actions 1305 fall into one or more of four chronic disease domains, including (1) Epidemiology and Surveillance, (2) Environmental Approaches to promote health and support and reinforce healthful behaviors, (3) Health Systems Interventions to improve the effective delivery and use of clinical and other preventive services, and (4) Community-Clinical Linkages to support cardiovascular disease and diabetes prevention and control efforts, and the management of chronic diseases.

Through this cooperative agreement, CDC currently provides over $100 million to state health departments in all 50 United States and the District of Columbia. Due to the funding, complexity, coordination, and collaboration needed to implement State Public Health Actions 1305, there are a number of semi-annual and annual reporting requirements related to categorical spending, chronic disease outcomes, efficiencies, and accomplishments. These routine reporting requirements allow CDC to monitor awardee progress towards programmatic goals, but do not collect specific information about the processes that support program implementation plans.

The overall evaluation of State Public Health Actions 1305 examines the efficiency and effectiveness of the program to provide accountability, improve programs, expand practice-based evidence, and demonstrate health outcomes. An important component of assessing efficiency and effectiveness of the program is examining synergy. Synergy occurs when collaboration, coordination, alignment, and a combination of inputs and activities (i.e., the assets and skills of all the participating partners) produce outputs and outcomes greater than those that would have occurred if they had been used separately. The proposed strategies are intentionally aligned to attain greater success in achieving measurable outcomes that speak to the aims of each categorical area and the program as a whole. CDC proposes to conduct an assessment to better understand synergy within and across State Public Health Actions 1305 funded programs.

The assessment is guided by three process-related research questions and multiple indicators designed to examine changes in processes, organizational structure, and capacity. It will also examine states' ability to implement a coordinated approach across the different chronic disease areas and the four domains; challenges and benefits; and measurable positive outcomes. The research questions include: (1) What changes did States make to create greater synergy?, (2) To what extent were redundancies reduced or eliminated at the State level?, and (3) How has coordination with critical partners changed since the implementation of State Public Health Actions 1305?

CDC plans to administer a web-based survey to health departments receiving funding through the State Public Health Actions 1305 cooperative agreement, including 50 states and the District of Columbia. CDC plans to administer the survey in 2016 (program year 4) and 2018 (program year 5) to explore changes in partnerships and synergy throughout the 5-year cooperative agreement. Surveys will be administered to health department staff directly involved in planning and/or implementation of the State Public Health Actions 1305 program, including principal investigators, chronic disease directors, program evaluators, epidemiologists, and program staff with subject matter expertise in one or more of the four categorical areas. CDC will recruit approximately 8 individuals from each funded program for a total of approximately 408 respondents.

CDC will use survey findings to (1) inform future CDC technical assistance provision to State Public Health Actions 1305 funded programs, and (2) inform future cross-cutting, coordinated funding models. In addition, findings will complement existing routine reporting by gathering information about the specific processes that support program implementation plans. Findings will be disseminated via grantee webinars, grantee annual meetings, reports to CDC leadership, and U.S. Congressional reports.

OMB approval is requested for 2 years. Participation is voluntary and respondents will not receive incentives for participation. There are no costs to respondents other than their time.

Estimated Annualized Burden Hours
Type of respondents | Form name | Number of respondents | Number of responses per respondent | Average burden per response (in hr) | Total burden (in hr)
Principal Investigators | Grantee Synergy Survey | 51 | 1 | 45/60 | 38
Chronic Disease Directors | Grantee Synergy Survey | 51 | 1 | 45/60 | 38
Program Evaluators | Grantee Synergy Survey | 51 | 1 | 45/60 | 38
Epidemiologists | Grantee Synergy Survey | 51 | 1 | 45/60 | 38
Program Staff with Subject Matter Expertise | Grantee Synergy Survey | 204 | 1 | 45/60 | 153
Total |  |  |  |  | 305

Leroy A. Richardson,
Chief, Information Collection Review Office, Office of Scientific Integrity, Office of the Associate Director for Science, Office of the Director, Centers for Disease Control and Prevention.

[FR Doc. 2016-04938 Filed 3-4-16; 8:45 am]

BILLING CODE 4163-18-P